DEPARTMENT OF COMMERCE

National Oceanic and Atmospheric Administration

RIN 0648-XM92

New England Fishery Management Council; Public Meeting

AGENCY: National Marine Fisheries Service (NMFS), National Oceanic and Atmospheric Administration (NOAA), Commerce.

ACTION: Notice; public meeting.

SUMMARY: The New England Fishery Management Council's (Council) Interspecies Committee will meet to consider actions affecting New England fisheries in the exclusive economic zone (EEZ).

DATES: The meeting will be held on Wednesday, February 18, 2009 at 9:30 a.m.

ADDRESSES:

Meeting address: The meeting will be held at the Holiday Inn, 31 Hampshire Street, Mansfield, MA 02048; Telephone: (508)339-2200; Fax:(508) 339-1040.

Council address: New England Fishery Management Council, 50 Water Street, Mill 2, Newburyport, MA 01950.

FOR FURTHER INFORMATION CONTACT: Paul J. Howard, Executive Director, New England Fishery Management Council; telephone: (978)465-0492.

SUPPLEMENTARY INFORMATION: The items of discussion in the committee's agenda are as follows:

(1) The Committee will discuss management plan integration - How to possibly combine species managed under current fishery management plans (FMPs) into broader units under fewer FMPs.

(2) They will also discuss a process for changing specifications for multiple species caught in fisheries managed under annual catch limits (ACLs) in different FMPs.

(3) There will also be a discussion of options to address the yellowtail flounder incidental catch by scallop vessels as it affects the scallop access areas in New England.

(4) The Committee will also finalize Council comments on priorities for 2009 observer coverage under the Standardized Bycatch Reporting Methodology.

(5) Other business.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: January 23, 2009.
Tracey L. Thompson,
Acting Director, Office of Sustainable Fisheries, National Marine Fisheries Service.

[FR Doc. E9-1780 Filed 1-27-09; 8:45 am]

BILLING CODE 3510-22-S